DEPARTMENT OF THE INTERIOR

Fish and Wildlife Service

[FWS-R4-ES-2014-N182; 40120-1112-0000-F2]

Amendment of a Joint Programmatic Candidate Conservation Agreement With Assurances and Safe Harbor Agreement, Upper Little Red River Watershed, Arkansas

AGENCY: Fish and Wildlife Service, Interior.

ACTION: Notice.

SUMMARY: Under the Endangered Species Act, we, the U.S. Fish and Wildlife Service, announce the receipt and availability of a revised joint Safe Harbor Agreement and Candidate Conservation Agreement with Assurances (revised agreement) and accompanying documents for establishing a programmatic enrollment of willing landowners by the parties to the revised agreement: Arkansas Game and Fish Commission, Natural Resources Conservation Service, The Nature Conservancy, and the Fish and Wildlife Service, Arkansas Ecological Services Field Office (parties). The revised agreement analyzes effects of conservation measures and certain land uses on two endangered species—the yellowcheek darter (Etheostoma moorei), a fish, and rabbitsfoot (Quadrula cylindrica cylindrica), a mussel—in the Upper Little Red River Watershed, northcentral Arkansas, so that these listed species, as well as 19 candidate and other unlisted species, might be added to those already covered by the existing enhancement of survival permits. We invite public comments on these documents.

DATES: We must receive any written comments at our Regional Office (see ADDRESSES) on or before December 18, 2014.

ADDRESSES: Documents are available for public inspection by appointment during normal business hours at the Fish and Wildlife Service's Regional Office, 1875 Century Boulevard, Suite 200, Atlanta, GA 30345; or at the Arkansas Ecological Services Field Office, Fish and Wildlife Service, 1500 Museum Road, Suite 105, Conway, AR 72032.

FOR FURTHER INFORMATION CONTACT: Mr. Michael Harris, At-Risk Species Coordinator, at the Regional Office (see ADDRESSES), telephone: 404-679-7066; or Mr. Chris Davidson, Endangered Species Coordinator, at the Arkansas Field Office (see ADDRESSES), telephone: 501-513-4481.

SUPPLEMENTARY INFORMATION: We announce the availability of the revised Agreement, which incorporates the yellowcheek darter, rabbitsfoot, and 19 State species of concern. The yellowcheek darter and rabbitsfoot became federally listed after the original enhancement of survival permits were issued in February 2007. The yellowcheek darter was originally covered by the Candidate Conservation Agreement with Assurances, but would now be transferred under the Safe Harbor Agreement. The Service previously advertised (71 FR 53129), and issued enhancement of survival permits, TE138910 (Safe Harbor) and TE138911 (Candidate Conservation) as 30-year enhancement of survival permits covering the speckled pocketbook (Lampsilis streckeri) and yellowcheek darter, respectively.

The parties request amendment of the enhancement of survival permits, for their remaining terms, under section 10(a)(1)(A) of the Act (16 U.S.C. 1531 et seq.), as amended. The parties' revised agreement describes conservation practices designed to protect and enhance streambed and bankside habitats for the benefit of the yellowcheek darter, rabbitsfoot, and the 19 State species of concern on private or non-Federal public lands enrolled under the revised agreement.

We specifically request information, views, and opinions from the public via this notice on our proposed Federal action, including our determination that the revised agreement, including its proposed conservation measures, would have minor or negligible effects on the species covered by the revised agreement. Therefore, we determined that the revised agreement is a “low-effect” project and qualifies for categorical exclusion under the National Environmental Policy Act (NEPA; 42 U.S.C. 4321 et seq.) as provided by the Department of the Interior Manual (516 DM 2 Appendix 1 and 516 DM 6 Appendix 1). A low-effect project involves (1) minor or negligible effects on federally listed or candidates or their habitats, and (2) minor or negligible effects on other environmental values or resources. Further, we specifically solicit information regarding the adequacy of the revised agreement per 50 CFR parts 13 and 17.

The revised agreement describes land use practices and monitoring to ensure the continued survival of the covered species. Enrolled landowners who implement these measures would receive assurances against take liability for federally listed species, or for those species that might become federally listed in the future. Conservation land use practices will vary according to the needs of a particular enrolled landowner. Typical measures include controlling livestock access to streams; protection, enhancement, or restoration of streamside or in-stream habitats; species reintroduction to unoccupied suitable habitat; and other conservation measures that may be developed in the future.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE138910 or TE138911 in such comments. You may mail comments to the Fish and Wildlife Service's Regional Office (see ADDRESSES). You may also comment via the internet to david_dell@fws.gov. Please include your name and return address in your email message. If you do not receive a confirmation from us that we have received your email message, contact us directly at either telephone number listed under FOR FURTHER INFORMATION CONTACT.

Finally, you may hand-deliver comments to either of our offices listed under ADDRESSES.

Covered Area

The revised agreement covers approximately 558,615 acres of potentially eligible lands in the Upper Little Red River watershed in northcentral Arkansas. Lands eligible to enroll in the revised agreement include any non-Federal properties within the watershed of the Upper Little Red River, Archey Fork, Middle Fork, South Fork, and Devils Fork upstream from Greers Ferry Reservoir.

Next Steps

We will evaluate the enhancement of survival permit amendment applications, including the revised agreement, and any comments we receive, to determine whether the amendment applications meet the requirements of section 10(a)(1)(A) of the Act. We will also evaluate whether amendment of the section 10(a)(1)(A) enhancement of survival permits would comply with section 7 of the Act by conducting an intra-Service section 7 consultation. We will use the results of this consultation, in combination with the above findings, in our final analysis to determine whether or not to amend the enhancement of survival permits. If we determine that the requirements are met, we will amend the enhancement of survival permits to add yellowcheek darter and rabbitsfoot to the Safe Harbor, and amend the Candidate Conservation Agreement to remove yellowcheek darter and to add the 19 species of State concern.

Authority

We provide this notice under section 10 of the Act (16 U.S.C. 1531 et seq.) and NEPA regulations (40 CFR 1506.6).

Dated: October 23, 2014.
Mike Oetker,
Acting Regional Director.

[FR Doc. 2014-27232 Filed 11-17-14; 8:45 am]

BILLING CODE 4310-55-P